FEDERAL MARITIME COMMISSION

Performance Review Board

AGENCY: Federal Maritime Commission

ACTION: Notice

SUMMARY: Notice is hereby given of the names of the members of the Performance Review Board.

FOR FURTHER INFORMATION CONTACT: William “Todd” Cole, Director Office of Human Resources, Federal Maritime Commission, 800 North Capitol Street NW, Washington, DC 20573.

SUPPLEMENTARY INFORMATION: Sec. 4314(c)(1) through (5) of title 5, U.S.C., requires each agency to establish, in accordance with regulations prescribed by the Office of Personnel Management, one or more performance review boards. The board shall review and evaluate the initial appraisal of a senior executive's performance by the supervisor, along with any recommendations to the appointing authority relative to the performance of the senior executive.

JoAnne D. O'Bryant,
Program Analyst.

The Members of the Performance Review Board Are

1. Louis E. Sola, Commissioner

2. Erin M. Wirth, Chief Administrative Law Judge

3. Mary T. Hoang, Chief of Staff

4. Sandra L. Kusumoto, Director, Bureau of Certification and Licensing

5. Tyler J. Wood, General Counsel

6. Florence A. Carr, Director, Bureau of Trade Analysis

7. Rebecca A. Fenneman, Director, Office of Consumer Affairs & Dispute Resolution Services

8. Karen V. Gregory, Managing Director

9. Peter J. King, Assistant Managing Director

[FR Doc. 2019-14106 Filed 7-1-19; 8:45 am]

BILLING CODE 6731-AA-P